DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G of the Health Insurance Portability and Accountability Act (HIPPA) of 1996, as amended. This listing contains the name of each individual losing United States citizenship (within the meaning of section 877(a) or 877A) with respect to whom the Secretary received information during the quarter ending June 30, 2013. For purposes of this listing, long-term residents, as defined in section 877(e)(2), are treated as if they were citizens of the United States who lost citizenship.

Last name | First name | Middle name/initials
ABBOTT | RUTH | ANN (NEE VAN AKEN)
ABRAM | JAMES | ANTHONY
ADAM | JONATHAN | ELIOT
ADAMCIK | THOMAS | KONGEVOLD
ADAMS | ELIZABETH | NICHOLAS
ADAMS | GEORGE | HOLADAY
AGARWAL | ASEEM
AKITT | SHERLYNN | RAE
AL ABDULLA | MISHAL | HASSAN
ALBERTI | PIETRO
AL-FARAJ | EMAD | ALI
ALMANA | SARA | MOHAMED
ALNUMAIRI | AHMED | BASSIM
ALRASHID | RASHID | ABDULMONEM
ANDERSON | DARREN | MATTHEW
ANDERSON | MARIE | CHRISTINA
ANDERSON | ROGER | VINCENT
ANDRES | KARIN | GERTRUD
ARAGI | ANDREW | PETER
ARIF | ARIF
ARMBURG | MARGARET | ANN
ARMSTRONG-BEZZOLA | ELISABETH | GYNE
ARNOLD | MAUREEN | HONOR
ARNOLD | MICHAEL | HORST
ASCH | MARGARET
AU | DAVID | HO CHEUNG
AUBERTIN | CHARLRS-ETIENNE | PHILIPPE
BACHOFEN | STEFAN | MICHAEL
BAE | SANG | K
BAER | SUZANNE | MARIE
BAGLIO | BENNETT | MICHAEL
BAGNASCO COVRE | LAUREN | MARIE NATASHA
BAHAIA | CAMILA
BAILEY | JANET | L
BAILEY | JOHN | A
BALIGH | MOHAMED | MOHSEN
BALLENGER | ANGEL | LARRINAGA
BALLMER | CHRISTINA
BALLMER | MIRIJAM | SABRINA
BALLOU | STEPHEN | GERARD
BANDY | CHRISTIAN | HARALD
BANDY | FREDERICK | WILLIAM
BANDY | JONATHON | PAUL
BANGARADKA | PARVATHI
BANHOLZER | CHRISTA | CECILE
BARGEZI | NICKLAUS | ROBERT
BARKMAN | KAREN | KAY
BARRIE | CHARLES | PRESCOTT
BARSK | RICHARD | ROBERT
BARTH | RICHARD | ERWIN
BARTH-DIMENSTEIN | YAEL | NICOLE
BASRAN | SUKHJEEWAN | KAUR
BATES | CATHERINE
BAUBERGER | NICOLE | MARIE
BAZZI | KAREEM | RAMZI
BEACH | BARRIE | KEVIN
BEAHAM | CHRISTOPHER | HOWARD
BECKER | KEITH | EDWARD
BECKER | YOUNG | JU
BECKWITH | TASMAN | LEE ARTHUR
BELANGER | KARIN | ANNE
BELL | RICHARD | DAVID
BELLANDE-BAQUET | JACQUELINE | LOUISE
BENNETT | NAFTALI
BENNETT | ROBERT | WILLIAM
BENZ | KATHARINA | AGATHA
BERETTA | PAULE | BEAUCHEF
BERNER | ROBERT | CHARLES
BERNIER | RHONDA | LISE
BERRY | ROGER | ARMAND
BERTOLINI | VIRGINIA | HOWE
BERTRAM | CHANDRALEKHA | GOOPTU
BESEN | JOAN | LORI
BEUG | DEBORAH | LEE
BEUG II | PETER | ANTHONY
BIGLER | GERTRUDE
BIGNEY | MATTHEW | HENRY
BILLETER | EVA | KATHARINA
BIRCH | AMANDA | ARDIS
BITAS | BASIL | CHRISTOS
BLACK | ERNEST | DAVID
BLACKBURN | JERRID | LEE
BLACKMAN | PAUL | MICHAEL
BLAKESLEE | LINDA | JOYCE
BLAKE-TYLER | ROBERT | ADDRIAN
BLOCH | KURT | HENRY
BLUMSCHEIN | OLIVER
BODZIN | EUGENE | SAUL
BOILEAU | HUGH | RUFUS
BOISSIER | CAROLINE
BOLLIGER | BEATRICE
BORGO | FRANCESCO | ALESSANDRO KINSKY DAL
BORLING | GLEN | WILLIAM
BORNEMAN | CHRISTOPHER | HUGO
BOSSARD | EVELYN | JANET
BOSSMIN | JANICE | ANN
BOSSORT | ANNE | KATHLEEN
BOUCHARD | JOSEPH | ALBERT
BOUCHARD | JULIENNE | LOUISELLE
BOWEN | DEVON
BOWER | THEODORE | HERBERT
BOZICEVICH | CYNTHIA | J
BRADER | ANNEMARIE | ELISABETH
BRANCO | JANICE
BRANDLE | MARCUS | ADOLF
BRANDSTRUP-HANSEN | STEFFEN | COLE
BRENNER | TOMAS
BREZINA | ANTHONY | JOSEPH
BREZINA | BEATRICE | CHRISTINE
BRISEBOIS | STACEY | QUENNEVILLE
BRIZZOLARA | ANTHONY
BRODIE | MALCOLM
BRONSTEIN | MAJBRITT
BROOKS | PAUL | ROBERT
BROOKS | ROGER | STRATTAN
BROWNING | FONDA | LINELLE
BRUNDELL | PETER | CARL
BRUNNER-HUERLIMANN | HEIDI | VERENA
BUCHSBAUM | AVA | HELEN
BUCKINGHAM | JAMES | PHILLIP
BUEHLER | HANS
BUFFLE | PAULINE | MARGOT
BUHRER | EMANUEL | DAVID
BURCKHARDT | FELICIA | JOYCE
BURCKHARDT | MARTIN | NICHOLAS
BURGER | NADINE | EUNHAE
BURNS | THOMAS | EDWARD
BUTLER | JENNIE
CACERES-PAL | MARCIA
CALAME | DOMINIQUE | JEANNE
CALAYAG | ORLAN | AGBIN
CALFEE | GERTRUDE | HELME
CALIN | TARA
CAMBATA | ALBERT | KERSHI
CAMBATA | CELIA | JOAN
CAMPAIGNE | LEONARD | OLIVER
CAMPBELL | SEAN | GORDON
CARASSO | PHILLIPE
CARNES | JASMIN | UNA
CARNES-MIZZI | DIUNA | KITTY IRENE
CARPENTER | DARREL | LANE
CARR | BARBARA | BLAIR
CARRASCO-HOUSTON | ALEJANDRA
CARSTEN | JONATHON | GLENN
CASAL | FREDERICO | GUARDIARO
CASANOVA | CARLOS | HUMBERTO
CASANOVA | DAWN | ELIZABETH
CASTILLO | CHRISTINE | WYSS MARTINEZ
CAULFIELD | DANA | MINET
CHAMBERLAIN | CASSANDRA | ELIZABETH
CHAN | BERNARD | PAK LI
CHAN | JONATHAN
CHAO | JOSEPH | I
CHEN | BING
CHEN | LAURA | KUAN-JUNG
CHEN | PING | JUAN
CHEO | PATRICK
CHEONG | MARIE | CHRISTINE QUE
CHEUNG | AMELIA | WAN TIN
CHEUNG | DEREK
CHEUNG | LIK | PING
CHIANG | FOSTER
CHIANG | TSU-CHIEN | AMANDA
CHIN | PETER | JAEHYECK
CHIU | KWOK | LEE
CHO | SARAH
CHONG | JINSIL
CHONG | THOMAS | SUNGPIL
CHOW | JULIETTE | LIP MING
CHOW | KIMMIE | KIN MING
CHRIST | NICOLAS | MARTIN
CHU | VANEESE | WING YEE
CHU LI | MARY | ANN
CIESLAK | DARIUSZ
CIESLAK | MALGORZATA | E.
COATES | PENNY | ANN
COLLINS | JUANITA | MAY
COONEY | HELEN | JUDITH
CORMIER | ALBERT | JOSEPH
CORNETTO | MICHAEL | ANTHONY
CORSER | SARAH | ALISON
COSTELLO | MANUS | JAMES MAC GREGOR
COUPER | SARAH | RACHAEL
COX | SHEILA | MAY
CRAIG | ROSE-MARIE | ANNE
CROLL | VIVIAN
CURRY | EMILY | EVA
CURRY | THOMAS | CAMERON
CUSHMAN | CHARLOTTE | SAUNDERS
CUVRY | LUCILA | RIVADENEIRA
CYR | YVON | JOSEPH
DA CUNHA | JOHN | SEBASTIAN
DA SILVA-PULVER | ROSA | MARIA
DAMIANOS III | NICHOLAS | GEORGE
DANISCH | CHARLOTTE | ROSE
DAVIDSON | STUART | CARL
DAVIS | GUY | DYLAN
DAVIS | LINDA
DAVIS | PEYTON | WILLIAM YATES
DE FERRARI | FRANCESCO | ALEXANDER
DE HAEN | STEPHANIE
DE LAIGUE | GAEL | FALQUES MARIE
DE MEYER | MARTINE | JEAN LOUISE
DE PAREDES | DORA | GARCIA
DE PAUW | CAROLINE | JESSICA CHARLOTTE
DE STEFANO | COSIMO | CARLO
DE STEFANO | DAVID | A.
DE WECK | PHILIPPE | THOMAS
DECKERT | LINARD
DEMORTIERR | VANESSA | STEPHANIE
DENNEMEYER | MARY | CATHERINE
DENNETT | FRANCES | ELIZABETH
DER BURG | ELSBETH | VON
DESTREE-BUTLER | KAREN | LESLIE
DETTAEN | SANDRA | JOYCE
DIEBOLD-LAUTERBURG | VALERIE | ANDREA
DIETRICH | RICHARD | DONALD
DIETZLER | RYAN | CHRISTOPHER
DIETZLER | TIMOTHY | HOWARD
DION | DANIEL | ANDREAS
DOCKERTY | WENDY | HOLT
DONALDSON | KELLIE | ANNE
DONATH | LIA | SUZANNE
DONNER | CATHY | MARIE
DONOWA | PAUL
DONZEL | NADER | GILBERT
DRISCOLL | LAURA | ANNE
DRURY | ROGER | MARKLEY
DRYER | JAMES | EDWARD
DUBACH | MARKUS | ALBERT
DUBS | KATHRIN | JULIA ELSA
DUDEK | DARWIN
DUFF | SEAN | GORDON
DUGGAN | JENNIFER | MAY LYNNE
DUNKLE | NICHOLAS | WILLIAM
DUPERRE | DAVID
DURISCH | EVA | MARIA
DVORAK | PATRICIA | RAE
DWAN | KEVIN | MICHAEL
DY | DANIEL | SY
EAKER | WAYNE | LYNE
EDWARDS | MARTHA | JANE
EDWARDS | STEPHEN | FRANCIS
EGGER | IVO
EGLOFF | CORRINE
EGLOFF | HEINZ
EGNAL | BARTON | ALEXANDER
EHRISMANN | MARCUS | ANGELO
EIGENMANN | MAX
EKHOLM | SUSAN | CARLA
ELDAMATTY | WALEED | ABDULGHAFFAR
ELLISON | KERRY | LYNN
ENNS | CAROL | RUTH
EPASINGHE | VARUNA | NISHANTHA
EPPENBERGER | BENEDIKT | ANDRI
ERBEL | STEPHAN | ERIC
ERNST | ANGELA | SANDRA
ERNST | KATHARINA | ELISABETH
ETTLIN | ALEXANDRA | MARY
ETTLIN-THRUELSEN | MARY | KAREN
EU | ANDREW | DOUGLAS
EVELIN | CAROL | LINDSEY
FADI | CHRISTINE | MARIE
FAID | CAROL | EVELYN
FAN | RONALD | JIU NING
FARMANFARMA | PERSITA
FARNUM | PATRICK | ALEXANDER
FATTINGER | NICOLAS | BENJAMIN
FAULKNER | DEBORAH | LYNN
FEE | THOMAS | GERARD
FEHR-FREY | BARBARA
FELBER | URSULA
FERGUSON | CHARLES | HAMILTON
FESSLER | TOBIAS | OHUTKAN
FEURER | JENNIFER | LYNN
FINNIGAN | DAWN | RENE
FISHER | ERIC | DAVID
FLATT | RONALD | DEAN
FLOMO | JULIEN | PATRICK
FLOYD | BARBARA
FLOYD | JON | MARC
FONG | CHUNG | YAN GARDIAN
FONTAINE | BRIGITTE
FORRER | CAROL | JOY
FORSTER | BEATRICE | ANNA
FORTNER | SANDRA | ANN
FOSTER | BRYAN | MARKUS
FOSTER | DORIS | EVELYN
FOSTER | MICHAEL | GRANT
FOSTER | SYBIL | ANN
FOX | KATHLEEN | ANN
FOX | LUKE | KAMUELA
FREEMAN | CYNTHIA | BLANCHE
FREI | BEATRICE | MONICA
FREIBURGHAUS | STEPHEN | WERNER
FREIBURGHAUS | THOMAS | JORG
FREIMAN | HAROLD | JOSEPH
FREY | SYLVIA | ROSA
FRICKER | STEPHAN | DANIEL
FRIESEN | LISA | A
FRIIS | ROBERT | REANEY
FRITZ | MARCUS | WERNER
FROIDEVAUX | CHRISTINE | JEANNE
FRUTIGER | CAROLINE
FRUTIGER | SUSANNA
FRUTIGER | THEODOR
FUCHS | LINDA | JO
FUJII | NORIYUKI | JONATHON
GABBANI | JUSTIN | MARCO
GABRIEL | TILMANN
GAEHWILER | SCOTT | ANDREW
GAGNER | FRANCOIS | C
GAIFFI | SEVERINO
GALE-ROWE | MARGARET | ADELE
GALPERTI | GIANLUCA | VINCENZO
GALUSH | PAUL | CHRISTOPHER
GAMBLE | SVITLANA
GARCIA-SOSA | ANDREA | C
GARCIA-SOSA | ANDREA | C
GARLID | PETER | ANDREW
GAUTIER | LESLEY | REINE
GEIL | JANET | EILEEN
GEIL | ROBERT | DON
GELEYNSE | PHYLLIS | KAY
GERBER | NORMAN | JOHN
GERRARD | ALEXANDER | RODERICK
GIANGRANDE | PETER | BRIAN
GIGNAC | MATHIEU | THOMAS
GILLIS | ERIN | JEANNE
GIRARDIER | ANNICK | ELSE MADELEINE
GLADDEN | THOMAS | DURWARD
GOH | DEBBIE | HUI-JIE
GOLDSTEIN | WILLIAM | DAVID
GOMEZ | ISABELLE | CHRISTINE
GOODFELLOW | SONYA
GOOD-JENNINGS | ALAN
GOODWIN III | ROBERT | E. LEE
GORCHYNSKI | SLYVIA | ANNE
GORDON | EDWARD | JAMES
GOROKHOFF | WLADIMIR | MICHAEL ALEXANDER
GRACE | MARK | CHRISTOPHER
GRAESSER | MARK | WARREN
GRAF | FELIX | ROLF
GRAVELLE | LORNA | GAIL
GRAY | KATHLEEN | GAIL
GREEN | JILL | ELLEN
GREEN | PATRICIA | ANN
GREENWOOD | ALEXANDRIA | LAVINIA
GRETENER-STEINER | KATHERINA | SANDRA
GRINNELL | SHAWNA | MARIE
GROSS | LIVIO | NICOLAS
GRUMAN | DEBORAH | DIANE
GUBLER | HEINZ
GUILLAUME | JEANNE
GUNNING | DONALD | FITTS
GUNTERT | JANE | MARGARET
GURNEY | MONICA | L
GUT | LESLIE | REIKEN
GUT | OLIVIA | ISABELLE
GUT | YVES | ALOYS
GUTIERREZ | PEDRO | PLA
GYSIN-MUELLER | HEIDY | VERENA
HAAK | TOMOTHY | JAMES
HAAS | LYNEE | MARIE
HABERLAND | MARC | THOMAS
HABIB | EMILE | SALIM
HADID | HISHAM | OSAMA
HAERTL | GREGORY | ANTON
HAESSEL | DALE | RAYMOND
HAHN | CAROLINE | NORA
HAINES | ADRIAN | DANIEL
HAJIVASSILIOU | VASSILIS | ARGYROU
HALAZONETIS | ATHANASSIOS | DEMETRIOS
HALBERT | MICHAEL | JORDAN
HALE | JONATHAN | LEE
HALE | JOYCE | MARIETTE
HALE-ELIASON | LYNETTE
HALSEGGER | MICHAEL
HAMPTON | MARK | WILLIAM
HANCOCK | JUDITH | E
HANCOCK II | JAMES | H
HAND | KATHERINE | ANN
HANSSON | RUTH | ONAWA (NEE CZARNECKI)
HARASYM | JUNE | RITA
HARDING | MERRITT | LYNDE
HARFENIST | ANNE
HARMS | DARYL | DEAN
HARMS | SHARON | SUE
HARPER | TRISTRAM | JOHN KENNEDY
HARRIS | PEGGY | ANN
HARTER | PAUL | ROBERT
HASHMI | AZFAR
HASSAN | HEYAM | ANIS
HAUSERMANN | ADRIAN | FELIX
HAYES | JAMES | PAUL
HEGGENDORN-RUFF | WENDOLYN | LOU
HEIDELBERG | HEKIMA | FRANCISCA
HEIDELBERG | UHURU | HELEN
HEINRICH | CHRISTINE | MARIE
HENCHALL | LOESHA
HENRY | NINA | LONGFELLOW
HENRY | VANIA | MARIE HELENE GENEVIEVE
HERBIG | VERNICE | ELECTA
HERMAN | DENNIS | MICHAEL
HERMAN | LAUREL | SUSAN
HERRMANN | HENRIK
HERRON | LISSA | ROCHA
HERZ-FISCHLER | ROGER | MORRIS
HEUBERGER | CLARA-ANN | GORDON
HEUSCHER | ANDREAS
HEUSCHER | DEBORAH | VICTORIA
HEUSCHER | LIKAS
HIBBITS | FENTON | THOMAS
HILLBERT-KENNELL | STEFANIE | A.
HILLBURT | ANDREW | RUSSELL
HILLMAN | SUSANNE | NAIMA
HILTON | BEVERLY | DALLEN
HIRSCHI | BEATRICE
HISLAIRE | JOHN | WILLIAM
HOERNING | PHILLIP | PETER
HOFMAN | HARMEN | PETER
HOFMAN | RHONA | JOYE
HOLLAND | LAURA | ELIZABETH
HOLTON | ALBERT | JOHN
HOLZ | INGO | HANS MANFRED
HOLZINGER | HEINZ | JOHN
HONICKE | ADRIAN | KENNETH
HOROWITZ | DINA
HOSHI | MASAHIDE | DAVID
HOWE | LORRAINE (LORRIE) | KAY
HSU | SIMON | NAI CHENG
HUBER | ERIC | MAX
HUBER | LINDA | SARAH
HUBER | MARK | ANDREAS
HUEBER | CORNEL | GUSTAV
HUEBER | ROSMARIE
HUNTER | RICHARD | MORROW
HUNZIKER | SALOME | TABITHA
HUONDER | ELODIE | MARIA
HUONDER | MONICA | BRIGITTE
HURD | JUDITH | S
HUSSAIN | ASIM | JAVAD
HUTCHISON | MARK | DEPREZ
HWANG | CHARLOTTE
HYATT | ROBERT | VERNON
HYDE | RAYDELLE
HYUN | ARVIN | JI YANG
IGLEHART | JOHN | HAWES
INTRATOR | MICHAEL | JAMES
IP | FONG | YUEN
IRELAND | ALICE | MARIE
IRELAND | ROBERT | MICHAEL
IRWIN | PATRICIA | ANN
ISDELL-CARPENTER | NICOLA
ISHIZUKA | AYAKO
JACOBS II | ELLIOTTE | CHARLES
JACOBSEN | SUSAN | ELIZABETH
JACOBSON | EMIL | DAVID
JAECKLIN | VICTOR | PAUL
JANIGAN | KAREN | JANET
JEANNERET | AURELIE
JEKER | LINDA | KAY
JENNI | LINDA | JEANNE
JENNI-ARNOLD | CAROLINE | TANJA
JERNIGAN | PHILLLIP | MICHAEL
JOFRE | JOHN | DALLAS
JOHNSON | BILLY | RAY
JOHNSON | MELISSA | ANN
JOHNSON | RICHARD | TROY
JOHNSTON | JULIANA
JOSEPH | GERARD | GEORGE
JUNGERS | MAEVE | DEBRA
KAELIN | JOSEPH | JEREMIE
KAEPPLI | MARK | MAX
KAGI | ANNE | MARIE
KAHLBETZER | MARCUS | NICHOLSON
KAISER | JACK | ALLEN
KAMMER | PETER
KANAGASABAPATHY | MALINI
KANEKO | AKIMASA
KANG | YOUNG | MI
KAO | HOWARD
KATZ | CHRISTOPHER | JOHN TOMIYE
KATZ | GIZELA | YEMIMA
KATZ | ITAMAR
KATZ | RACHEL | SHIRA
KAYTAR | JOHN | JOSEPH
KAYTAR | SABRINA | ELIZABETH
KECK FREI | ANDREA | LOUISE
KEITH | DONALD | A
KELLEHER | EILEEN | MARY
KELLER | DANIEL | FREDI
KELLER | EDWARD | ALFRED
KELLEY | ADA | MAE
KELLOGG | OLIVER | MARTIN
KENNEDY | VICTOR | MACLEOD
KENNY | MARIE | DENISE
KHANNA | GENESTA | V
KHANNA | SUNI | SHIV
KHURI | ILONA
KIEFFER | SUSAN
KIM | EMMA | ENCARNACION
KIM | HELEENA | S
KIM | MARK
KIM | PETER | JUNHO
KIM | SAMUEL | JOONG SIK
KIM | SHARON | KYOSOOK
KIM | SUMIN
KING | BARRY | ROLAND
KIOWSKI | PETER
KIRBY | LAURIE | MARIE AGNES
KIRBY | SANDRA | DIANE
KISTLER | ALEXANDER | RICHARD EDUARD
KNEBEL | MARGARET | WATTERS
KNOPP | ROGER | GLEN
KNUDSLIEN | ROBERT | ANTON
KOCH | FABIENNE
KONINGS | VALERIA | GHISLAINE
KONNERT STACEY | CANDACE | ANNE
KONTAK | MICHAEL | ANDREW
KORDA | OLIVER | JAMES
KORNER | IAN | DAVID
KORODY | DANIELA
KOSOF | PETER | LEE
KRAL | THOMAS | C.
KRAPF | DOROTHEE | LAUREN
KRAUSE | CORINNA | ELISABETH
KREBS | ANDREAS | PETER
KREIENBUEHL | BARBARA | DASSA SMITH
KRICHBAUM | HELENE
KRIEG | HEIDI | ERIKA
KRIEG | MICHAEL | URS
KRONENBERG | PETER | ALAN
KRUHL-VENANZI | MARY | ELIZABETH
KRUSELL | PETER | KARL
KUAN | IAN | LEONG
KUCHENBUCH | MARLENE | KATHERINA
KUCHLER | ANNA | MARIA
KUEHL | ROBERT | JAMES
KUNZ | STEPHAN | GOTTFRIED
KUNZI | CHRISTINA | SONYA
KUO | TAMMY | YU CHU
KURSNER | EMMA | IRMA
KURTH | CHRISTOPHER | THOMAS
KURTH | KIRSTEN | ELLEN
KUSMER | FRANKLIN | ZANE
KWANTES | LOUIS | JOHN
LAABS | ELSA
LABBE | LUCILLE
LACK | CHRISTOPHER | S.
LACOPPIDAN | MARIANNE
LAI | CLAYTON | MAX
LAI | MARVIN
LAI | VANESSA | TAMMIE
LAMARRE | CHRISTIAN | FELIX
LAMBERT | THIERRY | PHILIPPE
LAMONT | JENNIFER | LEE
LANATA | GABRIEL | JORGE
LANDSBERGER | ANDREAS | GUSTAV
LANGRIDGE | JASMINE | KENT
LANZ | MARC | LUC
LAU | JUSTIN | YINTAK-KUBACKI
LAU | STEPHANIE | YIN CHI
LAVERRIERE | YVONNE | ANNA
LAWSON | MARGARET | LOUISE
LEA | MARILYN | CAROL
LEACH | CATHERINE | SARA
LEE | CHERIE | ANNE
LEE | CHONG | MING
LEE | GAR | LIN
LEE | MICHELLE | MEI KI
LEE | TANYA | MARIE
LEE | TONY | CHUN HUNG
LEHMANN | THOMAS | W
LEHMANN-PALMER | KATHRIN | REGINA
LEI | DORIS
LEMOINE | BOI-LAN | NGUYEN
LEPAGE | PATRICIA | GABRIELA
LERCH | CORINNE | ANDREA
LEUNG | CHRISTOPHER | KIN-YING
LEUNG | RITA | YEE LING
LEUNG | SHAWN | SHUI-ON
LEUTHARD | DOMINIQUE | OLIVIA
LEUTHARD | NADIA | RUTH
LEVINE | MONROE | SANDY
LEWENDAL | BO
LEWY | PATRICIA
LHOYD-OWEN | CLAIRE | ALISON CATHERINE
LI | JENNIFER | ANN
LI | KANDICE | ELLEN
LIANG | ANDREW | SHIH-MIN
LILLIS | MAUREEN | TRACEY
LIM | DAVID | SWEE HOCK
LIPMAN | DOV | ALAN
LIPS-RAUBER | CHRISTINA | ANN ELIZABETH
LITTLE | DAWN | BRES
LIVIE | CASPAR | BRUCE
LOEBER | STEFAN | ALEXANDER
LOFSTROM | TIMOTHY | JAMES
LOH | MING | HUI AMANDA
LONG | EVELYN
LOPPACHER | LINDA | JEANNE ELIZABETH
LOPRIENO | ANTONIO
LUI | SUET | YING HUNG
LUNG | FRANK | DWAYNE
LUO | JIABIN
LUTOLF | STEVEN | P
LYGEROS | JOHN
MA | BRANDON | PO-MING
MA | CALVIN | HO CHI
MACHOWSKI | MICHAEL | ANTHONY
MACINNIS | KAREN | LORETTA
MADURO | SONIA
MAEDER | ERIC | RALPH
MAGNESON | HARLAND
MAIWALD | CHRISTIANE | MARGOT
MALAMA-MORICONI | KATHERINE | MAY
MALCA | ELIZABETH | VICTORIA ROHLING
MALONE | BRAD | NATHAN
MARI | PATRIZIA
MARQUARDT | JUDITH | MARGARET
MARSHALL | FRANCES | ELIZABETH
MARTIN | MICHELLE | SUZAN
MARTINEZ DE LECEA | JAMIE | MAC-VEIGH
MATTER | SANDRO
MATTHEWS | WILLIAM | C
MATTHYS | ANDREAS | JOHANNES
MATUSKA III | JOSEPH | WILLIAM
MAXWELL | LINDA | MAE
MAYER-LUTHI | MICHELE | CATHERINE
MAYKUT | SHANDIS | LAUREN PRICE
MAYO | PATRICK | ROGERS
MC ARTHUR | SARAH | GRACE
MCCARTHY | STUART | RAE
MCCLIGGOTT | WENDY | ANNE
MCCOMBS-HILLBURT | BARBARA
MCCORMICK | KYLE | RITCHIE
MCDOWELL | JOHN | ROBERT
MCELHANEY | RONALD | NELSON
MCEVOY | DENNIS
MCINNES | MATTHEW
MCLAUGHLIN | MARY | PATRICIA
MCPHERSON | IAN | DEWAR
MECCA | MICHAEL | VICTOR
MEIER | JAMES | EDWIN
MEIER | MANUEL | STEPHEN
MEIKLE | ANNA | HOLDORF
MENKES | KIRSTEN | ALEXANDRA
METCALF | ROBERT | DANA
MEWES | MARIE | JULIE
MEYER | HANS | RUDOLF
MEYER | MARIANNE
MEYER-LECLERE | SUZANNE
MICHAELS | MARNIN | J
MICHALSKI | CHRISTOPHER | DAVID
MIERINS | CAROLE | ANNE
MIESENBOECK | GERO | ANDREAS
MIJNSSEN | JAN | PETER
MILLER | GERALD | STUART
MILLER | MERLE | SUSAN
MILLHAM | ELIZABETH | LANSING
MIRKOVITCH | DOMINIQUE | MARCELINE
MIRKOVITCH | JOVAN
MITCHELL | MEREDITH | WING-SEE
MITCHELL | ROBERT | B
MOAN | KRISTEN | ELIZABETH
MOELLER-WILLI | GABRIELLE | G
MONTICONE | KATIE | WATSON
MOORE | ELIZABETH | H
MORARI | MANFRED | JOSEF DE NOBILE
MORGENTHALER | LINDA | KATRIN
MORIN | ANNE | KOURAKINE
MORLEY | SARAH | MARION
MORRICE | JEANNINE | ISABEL
MORRIN | MARIELLA | CARTWRIGHT COE
MOSER | BRIGITTE | MAJA
MOSS | BRENDON | JACK
MOSSERI-MARLIO | JACQUES | WILLIAM
MOUAT | CAROL
MOYERSOEN | JACQUES | FRANCOIS
MOZDZIERSKI | LEONIE | SUSAN ARMSTRONG
MOZDZIERSKI | OLIVIA | YOLANDA ARMSTRONG
MUELLER | ALEXANDER | MICHAEL
MUELLER | VERONIQUE
MULLER | MICHAEL | RENE
MULLER | STEPHEN | ELLIOTT
MUNECHIKA | THOMAS | TAKASHI
MYERS | ADRIAN | TIMOTHY
MYERS | HEASHIN | LEE
MYERSON | TRACY | ANNE
MYRON | STUART | ALLEN
NACCACHE | LAMIA | ANI
NACCACHE | MAYA | ZINA
NAFZIGER | JACOB | MICHAEL
NAFZIGER | WILLIAM | J
NAIR | DEEPAK | DIVAKARAN
NEESER | IRENE | SYLVIA
NEILSEN | GREGAR | JACK
NELSON | JOHN | STUART
NELSON | TANIA | MARIE
NEUHAUS | SABINE | KATRIN
NEULINGER | LYNN | MARSHA
NEWMAN | BRUCE | EVANS
NG | BILLY | HAY LING
NG | DOROTHY | SHUI TE
NICHOLS | MICHAEL | CHARLES
NICHOLS | NANCY | JUNE
NIEDRIG | DAVID | FRANKLIN
NIEM | CATHERINE | FU-JEN
NIEM | JAMES | TSE FONG
NIPPA | DORIS | KARIN
NOUR | LAUREL | CASTINE
NOVOTNY | LEONORE | MARIA
NOVOTNY | LUKAS
NUERNBERGER | FALK | PATRICK
NUSEIBEH | LANA | SORAYA
O | SEA-JUNE
O'BRIEN | DENIS | JAMES
O'CONNELL | RICHARD
O'CONNOR | PATRICK | RYAN
ODERMATT | MARIA | JULIA
OGILVIE | DOMINIK | ALEXIS PAUL
OH | MI | KYUNG
OLOFSSON | INGER | MARITA
O'NEILL | EDOUARD
ONG | BERNARD | BENG KIAT
O'REILLY | GAY | P
O'REILLY | GERALD | VINCENT
OROSZVARY | KRISTA | LEIGH
ORTEGA BERECIARTUA | VICTOR | MARIO
OTTOVA | VERONIKA
OUDAMA | TRACY | LYNN
PAHL | AMANDA | KIM
PAHL | JENNIFER | LYNN
PAK | EUISING
PALMER | BRUCE | BENDAN
PALMER | EDWARD
PAO | TOMMY | WATARI
PARAJON | LUIS
PARIKH | NAYAN | PARMANAND
PARK | CHINWON
PARK | REBECCA | JANE
PARKEL | THOMAS | CLAUDE
PATE | WILLIAM | FREDERICK
PATERSON | ROBYN | ALISON
PAUL-KOENIG | KATHARINA | MONICA
PAYNE | RICHARD | BYRON
PEDERSEN | DAMIEN | PALMER
PEESAPATI | NANDINI | SRINIVAS
PEISCHL | KAROLINE | ANNA
PENG | WILLIAM | SHIH-HSIAO
PENTECOSTES | EDUARDO | FIDEL
PERRENOUD-ROTTIGNI | JULIETTE | CANDICE
PERRET | SIMONE | THERESE
PERRY | SOPHIE
PETERS | CYNTHIA | JEAN
PETROHELOS | ANGELA | THEANO
PFENNINGER | FRANZISKA
PFISTER | RITA | BEATRICE
PHELPS | DANIEL | HOLDSWORTH
PHELPS | JANET | VIRGINIA
PHILLIPS-GRAESSER | ALICE
PHUA | YONG | IKAIKA
PICKARD | DOROTHY | BERNICE
PIERCE | MELANIE | WANETTE
PILIERO | CHRISTOPHER | JON
PILLAI | MARY | KRISTIN
PINES | DANNA | GOODELMAN
PIRA | TAMARA | CAROLINE SCHWOB
PIRES | MARCELO | DE ALMEIDA
PITT | MICHAEL | DENNIS
PIVNICK | JEFFREY | STEVEN
PLETT | WALTER | CORNIE
POLAKOFF | CAROLINE | LINDA
POMAZKOVA | MARIANNA
PONSEN | NICO | VICTOR
POON | SHING | CHUAN
POPHAM | ROY | EDMOND
POPPER | AURELIE | VALERIE
POWELL | REN | KATHERINE
POYNER | MARIANNA
PRATT-JOHNSON | DOUGLAS | JOHN
PREISWERK | MICHAEL | RUDOLF
PRESCOTT | DEBORAH | M
PRESCOTT | JAMES | HOMER
PRETRE | ISABELLE | ALEXIA
PRICE | AINSLEY | SUZANNE
PRINZ VON CROY | HEINRICH
PRINZ VON CROY | MARC | EMANUEL
PROSSER | ALISON
QUACKENBUSH | EARL | HULEN
QUADRI | JOSEPH
QUERBACH | DAVID | WILLIAM
QUIGG | DEBORAH | MURRAY
RACCAH | COLIN | P.
RADEMAKER | LANA | ELVA
RAES | GWENDOLYN
RAHMA | HAMDI | HAMDI
RAHMA | JINAN | HAMDI
RAMIN | KURT | PAUL
RANKIN | STEPHEN | CORNELL
RAPPAPORT | AVIVA | TAMARA AVERIL
RASAMNY | WALID | RACHID
RASMUSSEN IV | WALTER | JOHN
REBHOLZ | MICHAEL | ULRICH
REICHMUTH | BRIGITTA | SILVIA
REYMOND | LISE
RHEE | SANGHOON
RICHARDSON | SARAH
RICHMOND-BOARD | MARK | STEPHEN
RICHTER | ANDREAS | KURT
RIEB | DANIEL | LEE
RIGHTMYER | LOIS | WINIFRED
RILEY | TIMOTHY | LYLE
RINGUETTE | JANIS | ANN
RINGUETTE | NORMAND | JOSEPH
RITTER | MICHELLE | ANN
RITTER | ROGER | HENRY
ROAN | ADAM | MICHAEL
ROBBRECHT | TOM | DENNIS
ROBERT | ANTONY | PASCAL
ROBINSON | ELISABETH | MARIA
RODD | DENNIS | GYWN
RODGERS | EDWARD | FLOYD
RODGERS | JENNIFER | KAYE
RODRIGUEZ | MARCIA
RODRIGUEZ-FRAILE | GONZALO
ROESCH | PAMELA | ANITA
ROGAN | MAURICE | THOMAS
ROGGLI-REIMANN | MONICA | MADLEN
ROMAGNA | SUYIN | NG
ROSCOE | TIMOTHY
ROSENBERG | PAMELA | HENRY
ROSENHECK | THOMAS | SHERWIN
ROSENTHALER | PATRICK | JOACHIM
ROSS | MICHAEL | STEPHEN
ROSSELLI | ANNA | MARIA
ROSSITER | CAROL | ELAINE
ROTH | BINIA | URSULA
ROTHBERG | TAMARA | LADINA OLIVIA
ROTTENBERG | ROSEMARY
ROWE | JEFFREY | DOUGLAS
RUBATTO | PAOLO | TOMMASO
RUBENS | GERARD | STEVEN
RUCH | CHRISTOPH | MICHAEL
RUCHTI | BRUNO | PARVAT
RUEGG | THERESA | KATHARINA
RUGGLES-HALL | CHRISTOPHER
RUSCONI | GIORGIO | GIACOMO
RUSTHOVEN | NATHAN | PETER
SABBIONI | LAURA | CHIARA
SABO | BARBARA | J
SAGMEISTER-FOX | KATHLEEN | MARIA
SALLOUM | SHAMS
SALOMONS | SHARON | DENISE
SANDMANN | MARGARETA
SAUER | THOMAS | JEFFREY
SAUPE | ROLF | PETER
SAVAGE KOHUT | CATHERINE
SAYRE | ERIC | CONRAD
SCHAECHTER | DENISE
SCHAEFER | MICHAEL | BRIAN ALEXANDER
SCHEIDEGGER | FLAVIAN | LUCA
SCHERRER | NICOLE | FRANCOISE
SCHILDKNECHT-MOSER | JANINE | GABRIELLE
SCHILLING | REBECCA | STEPHANIE
SCHINDLER | CHRISTINE | ELISABETH
SCHLATTER | RICHARD | JOHN
SCHLECHTE-PETCH | LINDA | JEAN
SCHLOSSER | DEVI | DAVID
SCHMID | ELIZABETH | ANN
SCHMITT | CASSANDRA | LYNN
SCHNEUWLY | ANDREAS | DANIEL
SCHOCH | LISA
SCHOENER | ANNA | KLARA
SCHOEPP | NATHAN | EDWARD
SCHONBACHLER | DAVID | ROLF
SCHONBACHLER | MARK | DOMINIC
SCHUBERT | ANDREAS | MARK
SCHULTZ | MARC | STEVEN
SCHUSTER | SUSANNA | SOPHIA
SCOTT | MARIANNE | B
SCROGGINS | MELODY | JEAN
SEIFERT | FREDERICK | ROY
SEPETOSKI | REMY
SEPHTON | PETER | STANLEY
SEYMOUR | BRIAN | RICHARD
SEYMOUR | ROSEMARY | JANE
SHAHABI | LALEH
SHAOULIAN | SHAI
SHASTRY | ASHISH | JAIPRAKASH
SHAW | DAVID | CHRISTOPHER
SHEWBRIDGE | JOANNA | CATHERINE
SHIELDS | FRANCIS | COX
SHIH | JANET | CHENG HUI
SHIH | JASON | SHUN JIN
SHROFF | PRATUL
SHU | KARMAN | HOI MING
SIDLER | CHRISTINE | ANTOINETTE
SIEGRIST | MARCO | EDWIN
SIEVEKING | CHRISTINA | FELLOWES
SIGNER JR | PAUL | JAKOB
SILVER | IRVING | ROBERT
SIMONENKO | DMITRI | VLADIMIROVICH
SIMPSON | KYFFIN | DAVID
SIU | NINA | MARGARET
SKRZYNSKI | LAURA | RUEDIGER SOMMER
SLATTER | IAN | ST PIERRE
SMITH | DANIEL | SCOTT
SMITH | GEORGE | T.
SMITH | JARRETT | MACKENZIE
SMITH | PATRICIA | ARLENE
SMITH | TERESA | JOSEPHINE
SMITHERS | JEREMY | MICHAEL
SMOOTZ-DE MERCHANT | TERRI | ANN
SOBOL | ADAR
SOLAND | PETER | ALAN
SOLE | MICHAEL | JOSEPH
SONG | CHOY-CHUI
SPONDER | JACINTHA | EVELYN
SRAGNER | NICOLE | ELIZABETH
STAINBROOK | CHRISTOPHER | NEIL
STAMENKOVIC | IVAN
STARIKOV | VALERA
STATON | FRANCISCO | A
STAUB | YURI | ADRIAN
STAUMANN | LINUS
STEELE | LESLIE | JAYE
STEFANO | KAREN | ANN
STEIN | ALISON | SARA
STEIN | GRETCHEN | CAROLINE
STEINBECK | ARI | MICHAEL
STEINBECK | DEAN | MARC
STEINER | STEFANIS
STEINMANN | LISA | SHARON
STILL | ROXANNE | LOUISE
STOFFYN | MARC
STONE | CAROLYN | MARGARET
STONER | WILLIAM | CAUFMAN
STRAUSS | PETER | JOSEPH
STRELE | JEAN | ROBERT
STRICKLAND | ALLISON | LOUISE
STRICKLAND | JAMES | SCOTT KENNETH
STROSBERG | RICHARD | MICHAEL
STUART | MEGAN | JEAN
STUCKI | EVELYN | DORIS
STUMBORG | ANDREW | JEROME
STYMEIST | DAVID | SANDERS
SUAREZ | ROBERTO | LAI
SUCKOW | JEFFREY | PETER
SUGRUE | CHRISTOPHER | CLANCY
SULLIVAN | JENNIFER | ELISSA
SULLIVAN | KVETUSE | DENISA
SULLIVAN | MICHAEL | JOSEPH
SUMMERS | NEIL | ALEXANDER
SUMMERS | PENELOPE | ANNE
SUSSANGKARN | PRAPHOB
SZNITMAN | RAPHEL
SZYDLOWSKI | STEVEN
TAINES | CARLA | JOAN
TAKACS | BELA | JANOS
TALMERS | NICHOLAS
TAN | KIMBERLY-ANN | ANNE
TAN | SIAN | WEE
TAN | SUNNY
TANENBAUM | CHERYL | MARLA
TAPANILA | CAROL | LEE
TAPANILA | DAN | LOUIS ERVIN
TARVIN | CHARLES | DEREK
TASH | DONALD | FRANCIS
TASH | PENELOPE
TASH | SELENE | JO DELL
TASTEVIN | DAMIEN | ALEXANDER
TAYLOR | ANDREA | DENISE
TAYLOR | PAMELA | JEAN
TAYLOR | SUSAN | JEAN
THARP | RUSSELL | H
THARSON | CAROLYN | CHERUBINI
THOMAS | EVA
THOMPSON | MARY | SHARON LINDA
THOMSON | JEFFREY | BLAKE
THOMSON | ROBERT | ASHLEY
THORNTON | PETER | CHAPLIN
THORNTON | URSULA | BERTA
TILLETT | SAMUEL | RAYMOND
TING | JU-HUI | THERESA
TODD | NICHOLAS | ROGER
TOELLE | ANN | AINSWORTH
TOLANI | AJAY
TOLLEFSON | DANIEL | L
TONG | IRENE | GO
TONG | IVA | GO
TORNOE | KRISTEN | ANNE
TORRIE | COLLEEN | LOUISE
TORRIE | LERON | ALBERT
TOUSSOUN | SELIM
TOWNES | DAVID
TOWNS | THERESA | SUSANNE
TOWNSON | ANDREA | FINSTAD
TRAUTWEILER | CHRISTOPH | JOHANNES
TRAVIS-GALLOWAY | SUSAN
TROBAK | JOHN | DELVIN
TRUMPY | MONIQUE
TSAI | CHIU-CHEN
TUNNELL | ALICE | MARIE
TURKINGTON | MAXINE | BERYL
TURTLE | LINDA | LOREE
TWEEDY | LAURA
UBEROI | SANGITA
UMMEL | MELVIN
UNSWORTH | LINDA | RUTH
VADEBONCOEUR | NATALIE | IVONNE
VADER | JOHN | PAUL
VAISOVA | VERA | PAULA
VALLIS | TINA | MARIE
VAN ANDEL | FRED | ARTHUR
VAN DUSEN | TIM | DAVID
VAN NORDEN | SUSAN | ELIZABETH
VAN REMORTEL | KATRIEN | ARMANDE ROBERT
VANCE | BILL | METCALF
VANDERBURG | PATRICIA | HARTY
VAUCHER | NICOLE | SUZANNE BENOIT
VAUTHIER | PETER | ALFRED
VENTOURAS | PANAGIOTIS
VICIC | DONALD | JOSEPH
VICIC | DOUGLAS | PAUL
VIRIOT | MAXIME | GEORGES
VOELIN-THOMMEN | LINDA | PATRICIA
VOELLMY | THEODORE | EDWARD
VOGEL | PATRICIA | ANN
VOGT-HORNICK | BARBARA | JO
VOLET | MARIA | ELENA
VOLKENBURGH | GREGGNIGEL | VAN
VON TROTHA | PHILIPP | KENNEDY WIEDMAN
VONDER-MUHLL-CHRIST | MIREILLE | ANNEMARIE
VOUTAT | OLIVER | JEANPIERRE
VUILLEMIN | AURELE
WALDNER | JACOB | JOSEPH
WALLACE | TIMOTHY | LEE
WALLRAFF | MARTHA | MOORHEAD
WALTON | CHARLES | STUART
WAN | HO | YAN
WANG | DANNIE | SHI
WANG | PEGGY | POCHI
WANG | SEE | PING
WARDEN | LINDA | SUSAN
WARKENTIN | JOAN | MARIE
WARKENTIN | LAURA | JANE
WARKENTIN | MATTHEW | DAVID
WARMBROD | MARY | TAYLOR
WARMBROD | WILLIAM | KENNETH
WAT | STEPHEN | WUN-LOK
WAUGH | CAROL | ANN
WEBER | ERWIN | GOTTFRIED
WEBER | GERTRAUD | MARIA
WEGNER | LAURA | M
WEIBEL-TAO | AMY
WERDER | ANDREAS
WERKLUND | DONALD | LINWOOD
WERKLUND | GILBERT | VICTOR
WEY | JAMES | JYH-JYE
WHARTON | CHERYL | GAIL
WHARTON | SUSANNA | MARGARETHA
WHEELER | LADDIE | STEWART
WHIPPS | MASON | NGIRCHECHEBANGEL
WHITE | ADELINA | E.
WHITE | DONALD | JOHN
WHITE | JOHN | WAYNE
WHITMORE | PATRICIA | ANN MOON
WIBOWO | KEVIN
WIENS | NORMAN | PAUL
WIESENHOF | VALENTINO | SALVADORI
WIESER | THOMAS
WIGHT | KARA | LISA
WILARAS | CHRISTOPHER | TITIAN
WILD | ANINA | ANDREA
WILD | PAULA | LEE
WILLI | IRINA | KATARINA MOELLER
WILLIAMS | REBECA | ULRIKE
WILSON | ELIZABETH | ANNE
WILSON | VICTORIA | FRANCES
WINKLER | ISABELLE | CHARLOTTE
WINKLER | MONIKA | SABINE
WISE | SHERI | MARIE
WOLF | DAVE
WONG | ADA | YUK NG
WONG | CASSANDRA | YUIT WAH
WONG | JENNY | YU
WONG | LAURA | ELIZABETH
WONG | SHIRLEY | SHIK-YUE
WONG | STEPHANIE | MING-YAN
WONG | WAI
WONG | WALTER | WANG-HING
WONGCHAI | SASICHA
WONG-HARRISON | ANNIA
WONNACOTT | MARJORIE | JUNE
WOO | DONALD | CHUNG-LIEN
WOODRING | JOSEPH | PORTER
WOSK | DANIEL | DAVID
WU | BILLY | CHU-YI
WU | GUANGZHAO
WUERGLER | HEIDI
XIROUCHAKIS | PAUL | CHRISTOS
YALE | JANET | SUSAN
YEH | WEN | LI
YETHADKA | VENKATESHWARA | PRASAD
YEUNG | LISA | KAN
YIN | ERICK | CHAO
YIP | YAT | LAM
YONG | MARYANN | MEI CHERN
YOUNG | ALYS | M
YOUNG | MARGOT | DIANE
YOUNG | MICHAEL | D
YOUNG | SCOTT | CAMRON
YUEN | ERICA | MI MING
ZABEL | ALLEN | WILLIAM
ZABEL | JARRETT | PAUL
ZEHENTNER | SARAH | EILEEN
ZEHNDER | BARBARA | ANN
ZHANG | JOHNNY | ANQIANG
ZHANG | LIXIA
ZIELINSKI | VALERIE
ZIMMERMANN | SUSANNE | AMY
ZINTZMEYER | HEINZ | WILLIAM
ZIOLA | SHEILA | ANN
ZONDERVAN | SAMUEL | JOHN
ZUBACK | DEBORAH | CHERRY
ZUNTINI | SUSAN | BARBARA
ZURMUHLE | ROBERT | WALTEER
ZWAHLEN | ANNA

Dated: July 25, 2013.
Ann V. Gaudelli,
Manager Team 103, Examinations Operations—Philadelphia Compliance Services.

[FR Doc. 2013-19224 Filed 8-8-13; 8:45 am]

BILLING CODE 4830-01-P